ENVIRONMENTAL PROTECTION AGENCY

40 CFR Part 52

[EPA-R03-OAR-2016-0005; FRL-9944-72-Region 3]

Approval and Promulgation of Air Quality Implementation Plans; Pennsylvania; Measurement and Reporting of Condensable Particulate Matter Emissions

AGENCY: Environmental Protection Agency (EPA).

ACTION: Proposed rule.

SUMMARY: The Environmental Protection Agency (EPA) is proposing to approve a state implementation plan (SIP) revision submitted by the Commonwealth of Pennsylvania. This SIP revision amends two regulations to clarify testing and sampling methods for stationary sources of particulate matter (PM) and add the requirement to measure and report filterable and condensable PM. This action is being taken under the Clean Air Act (CAA).

DATES: Written comments must be received on or before May 9, 2016.

ADDRESSES: Submit your comments, identified by Docket ID Number EPA-R03-OAR-2016-0005 at http://www.regulations.gov, or via email to fernandez.cristina@epa.gov. For comments submitted at Regulations.gov, follow the online instructions for submitting comments. Once submitted, comments cannot be edited or removed from Regulations.gov. For either manner of submission, EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Maria A. Pino, (215) 814-2181, or by email at pino.maria@epa.gov.

SUPPLEMENTARY INFORMATION:

I. Background

PM, also known as particle pollution, is a complex mixture of extremely small particles and liquid droplets. Particle pollution is made up of a number of components, including acids (such as nitrates and sulfates), organic chemicals, metals, and soil or dust particles. The size of particles is directly linked to their potential for causing health problems. EPA is concerned about particles that are 10 micrometers in diameter or smaller, because those are the particles that generally pass through the throat and nose and enter the lungs. Once inhaled, these particles can affect the heart and lungs and cause serious health effects.

EPA established the first national ambient air quality standard (NAAQS) for coarse particles (PM10), which are particles less than 10 microns in diameter, on July 1, 1987. 52 FR 24634. The rules established primary (health based) and secondary (welfare based) PM10 standards for short term (24-hour) and long term (annual) exposures to PM. The 24-hour standards were set at 150 micrograms per cubic meter (µg/m³), not to be exceeded more than once per year on average over a 3-year period. The annual standards were set at 50 µg/m³, based on a three-year average annual arithmetic mean. On July 18, 1997, EPA established the first NAAQS for particles less than 2.5 microns in diameter, known as fine particulate (PM2.5). 62 FR 38652. EPA set an annual primary and secondary standards at 15 µg/m³, based on a three-year average of annual mean PM2.5 concentrations and 24-hour primary and secondary standards at 65 µg/m³, based on a three-year average of the 98th percentile of 24-hour concentrations. EPA revised the PM2.5 NAAQS on October 17, 2006, lowering the primary and secondary 24-hour NAAQS from 65 µg/m³ to 35 µg/m³. 71 FR 61144. In that rule, EPA retained the 24-hour PM10 NAAQS, and revoked the annual PM10 standard. On December 14, 2012, EPA once again revised the PM2.5 NAAQS, lowering the level of the health based primary annual standard from 15 to 12 µg/m³, while retaining the welfare based secondary annual standard at 15 µg/m³. That rule also retained the 24-hour PM2.5 standard at a level of 35 µg/m³.

On December 1, 2010, EPA revised two test methods for measuring PM emissions from stationary sources. 75 FR 80118. One of the revised methods, called Method 201A, provides the capability to measure the mass of filterable PM2.5. The second revised method, called Method 202, makes measurement of condensable PM more accurate. Condensable PM forms from condensing gases or vapors. It is a common component of both PM10 and PM2.5. The combination of Methods 201A and 202 helps EPA and states to develop more accurate primary PM emissions inventories, determine whether stationary sources are major sources of PM10 or PM2.5 emissions for the New Source Review (NSR)/Prevention of Significant Deterioration (PSD) program or the Title V Permit program, determine more accurately the effectiveness of control devices for PM10 or PM2.5, develop regulatory limits with more appropriate test methods, and determine compliance with regulatory limits with greater accuracy. See 40 CFR part 51 appendix M and 75 FR 80118 (December 21, 2010).

II. Summary of SIP Revision

On June 25, 2015, the Commonwealth of Pennsylvania submitted a formal SIP revision that amends chapters 121 and 139 of title 25, Environmental Protection, of the Pennsylvania Code (25 Pa. Code). Methods 201A and 202 are incorporated by reference in Pennsylvania's Source Testing Manual, which is incorporated by reference in 25 Pa. Code, chapter 139, Sampling and Testing. Amendments to chapter 121, in section 121.1, add definitions for the terms “condensable particulate matter” and “filterable particulate matter.” The amendments to 25 Pa. Code section 139.12 explain the process for determining compliance with filterable and condensable PM emission limitations, and explains the compliance demonstration process. Under 25 Pa. Code section 139.12(b), the owner or operator of a stationary source subject to PM emission limitations or to NSR/PSD applicability determinations is required to demonstrate compliance for filterable and condensable PM emissions. The amendment to 25 Pa. Code section 139.53 specifies to whom monitoring reports must be submitted.

III. Proposed Action

EPA is proposing to approve the June 25, 2015 Pennsylvania SIP revision, which amends specific provisions within chapters 121 and 139 of 25 Pa. Code. The amendments clarify testing and sampling methods and reporting requirements for stationary sources of PM and add the requirement to measure and report filterable and condensable PM. This revision meets requirements in section 110 of the CAA and strengthens the Pennsylvania SIP. EPA is soliciting public comments on the issues discussed in this document. These comments will be considered before taking final action.

IV. Incorporation by Reference

In this proposed rulemaking action, EPA is proposing to include in a final EPA rule, regulatory text that includes incorporation by reference. In accordance with the requirements of 1 CFR 51.5, EPA is proposing to incorporate by reference the revised Pennsylvania regulations, published in the Pennsylvania Bulletin, Vol. 44 No. 15, April 12, 2014, and effective on April 12, 2014. EPA has made, and will continue to make, these documents generally available electronically through www.regulations.gov and/or in hard copy at the appropriate EPA office (see the ADDRESSES section of this preamble for more information).

V. Statutory and Executive Order Reviews

Under the CAA, the Administrator is required to approve a SIP submission that complies with the provisions of the CAA and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this proposed action:

• Is not a “significant regulatory action” subject to review by the Office of Management and Budget under Executive Orders 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this rulemaking action, proposing to approve amendments to Pennsylvania's regulations regarding testing and sampling methods for stationary sources of PM, including filterable and condensable PM, does not have tribal implications as specified by Executive Order 13175 (65 FR 67249, November 9, 2000), because the SIP is not approved to apply in Indian country located in the Commonwealth, and EPA notes that it will not impose substantial direct costs on tribal governments or preempt tribal law.

List of Subjects in 40 CFR Part 52

Environmental protection, Air pollution control, Incorporation by reference, Particulate matter, Reporting and recordkeeping requirements.

Authority: 42 U.S.C. 7401 et seq.

Dated: March 24, 2016
Shawn M. Garvin,
Regional Administrator Region III.

[FR Doc. 2016-08159 Filed 4-7-16; 8:45 am]

BILLING CODE 6560-50-P